DEPARTMENT OF DEFENSE

Department of the Army, Corps of Engineers

33 CFR Part 334

Naval Base Ventura County, San Nicolas Island, California; Restricted Area

AGENCY: U.S. Army Corps of Engineers, DoD.

ACTION: Notice of proposed rulemaking and request for comments.

SUMMARY: The Corps of Engineers (Corps) is proposing to amend its regulations to modify an existing permanent restricted area in the waters of the Pacific Ocean surrounding San Nicolas Island, California. Naval Base Ventura County is requesting the Corps modify the existing restricted area to realign subsections (designated Alpha, Bravo and Charlie) within the restricted area to better match current operational requirements. In addition, the proposed rule would correct a mapping error in the original rule. The perimeter and overall size of the existing restricted area would remain unchanged. San Nicolas Island is wholly owned by the United States and operated by the U.S. Navy as part of Naval Base Ventura County.

DATES: Written comments must be submitted on or before December 23, 2013.

ADDRESSES: You may submit comments, identified by docket number COE-2013-0014, by any of the following methods:

Federal eRulemaking Portal: http://www.regulations.gov. Follow the instructions for submitting comments.

Email: david.b.olson@usace.army.mil. Include the docket number, COE-2013-0014, in the subject line of the message.

Mail: U.S. Army Corps of Engineers, Attn: CECW-CO-R (David B. Olson), 441 G Street NW., Washington, DC 20314-1000.

Hand Delivery/Courier: Due to security requirements, we cannot receive comments by hand delivery or courier.

Instructions: Direct your comments to docket number COE-2013-0014. All comments received will be included in the public docket without change and may be made available on-line at http://www.regulations.gov, including any personal information provided, unless the commenter indicates that the comment includes information claimed to be Confidential Business Information (CBI) or other information whose disclosure is restricted by statute. Do not submit information that you consider to be CBI, or otherwise protected, through regulations.gov or email. The regulations.gov Web site is an anonymous access system, which means we will not know your identity or contact information unless you provide it in the body of your comment. If you send an email directly to the Corps without going through regulations.gov, your email address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the Internet and will be publicly available only in hard copy form.

FOR FURTHER INFORMATION CONTACT: Mr. David Olson, Headquarters, Operations and Regulatory Community of Practice, Washington, DC at 202-761-4922, or Mr. Antal Szijj, Corps of Engineers, Los Angeles District, Regulatory Division, at 805-585-2147.

SUPPLEMENTARY INFORMATION:

Executive Summary

The purpose of this regulatory action is to amend an existing restricted area to realign subsections in a manner that better matches the U.S. Navy's current operational needs. Vessels would only be prohibited from entering the restricted area during closure periods. The amendment would also update various titles and contact references to current command structure and names, and correct a mapping error in the original rule.

The Corps authority to amend this restricted area is Section 7 of the Rivers and Harbors Act of 1917 (40 Stat 266; 33 U.S.C. 1) and Chapter XIX of the Army Appropriations Act of 1919 (40 Stat 892; 33 U.S.C. 3).

Background

The restricted area around San Nicolas Island was established by regulation in 1965. The original and later revised regulations specifically allow fishing in the other two sections, except when closed by the Commander, Pacific Missile Range. The restricted area regulations also establish a 300 yard no-access buffer around the island and specifically prohibit landing on the island.

As presently designed, the restricted area does not match Naval Base Ventura County's current operational needs. While the existing focus of the restricted area is section Alpha, current operations are primarily focused to the west, over section Bravo. The boundaries of the three areas also bisect the north side of the island and would be better defined by a separation at the east end between sections Alpha and Charlie. There is also an error in the current regulation, which incorrectly designates one point of section Alpha's boundary.

Section Alpha regulations restrict commercial trawl fishing and other “fishing operations.” Commercial fishing is now common within section Alpha and most of the fishing at and around the island occurs in section Alpha.

Additionally, current regulations (see 33 CFR 334.980(d)(2) and (d)(4)), restrict all vessels except fishing vessels, range craft, and vessels cleared for entry, from sections Bravo or Charlie at any time, except in emergency. This is also not enforced.

The proposed change would modify 33 CFR 334.980 to update the regulations and more adequately support the present operational needs. The proposal would change the boundaries of the restricted area sections into western, eastern and northern areas. This change would make the areas more aligned with visible features on the island. The U.S. Navy could still open and close these sections in part or in whole depending on operational needs. The proposed change would remove references to range marker poles, given that the majority of boaters use Global Positioning Systems to determine location and the need for markers (and subsequent maintenance of markers) no longer exists.

The proposal would remove references to fishing restrictions to clarify that the Navy does not regulate fishing, but rather closes areas to all access when necessary for operations. The proposal would update titles and contact references to match current command structure.

Procedural Requirements

a. Review Under Executive Order 12866

This proposed rule is issued with respect to a military function of the Defense Department and the provisions of Executive Order 12866 do not apply.

b. Review Under the Regulatory Flexibility Act

This proposed rule has been reviewed under the Regulatory Flexibility Act (Pub. L. 96-354) which requires the preparation of a regulatory flexibility analysis for any regulation that will have a significant economic impact on a substantial number of small entities (i.e., small businesses and small governments). Unless information is obtained to the contrary during the public notice comment period, the Corps expects that the amendment of this restricted area would have practically no economic impact on the public, no anticipated navigational hazard, or interference with existing waterway traffic. This proposed rule if adopted, will have no significant economic impact on small entities.

c. Review Under the National Environmental Policy Act

Due to the administrative nature of this action and because there is no intended change in the use of the area, the Corps expects that this regulation, if adopted, will not have a significant impact to the quality of the human environment and, therefore, preparation of an environmental impact statement will not be required. An environmental assessment will be prepared after the public notice period is closed and all comments have been received and considered. After it is prepared, it may be reviewed at the District office listed at the end of the FOR FURTHER INFORMATION CONTACT section, above.

d. Unfunded Mandates Act

This proposed rule does not impose an enforceable duty among the private sector and, therefore, it is not a Federal private sector mandate and it is not subject to the requirements of either Section 202 or Section 205 of the Unfunded Mandates Act. We have also found under Section 203 of the Act, that small governments will not be significantly and uniquely affected by this rulemaking.

List of Subjects in 33 CFR Part 334

Danger zones, Marine safety, Navigation (water), Restricted areas, Waterways.

For the reasons set out in the preamble, the Corps proposes to amend 33 CFR part 334 as follows:

PART 334—DANGER ZONE AND RESTRICTED AREA REGULATIONS

1. The authority citation for 33 CFR part 334 continues to read as follows:

Authority: 40 Stat. 266 (33 U.S.C. 1) and 40 Stat. 892 (33 U.S.C. 3).

2. Revise § 334.980 to read as follows:

§ 334.980 Pacific Ocean, around San Nicholas Island, Calif., naval restricted area.

(a) The area. (1) perimeter (restricted). The waters of the Pacific Ocean around San Nicholas Island, Calif., extending about 3 miles seaward from the shoreline, described as follows:

| Latitude | Longitude
Point A | 33°10′10″ | 119°24′20″
Point C | 33°10′10″ | 119°31′10″
Point D | 33°12′00″ | 119°35′30″
Point E | 33°14′20″ | 119°37′40″
Point F | 33°16′40″ | 119°38′10″
Point G | 33°19′10″ | 119°37′10″
Point I | 33°20′10″ | 119°31′10″
Point K | 33°17′40″ | 119°24′50″
Point L | 33°13′50″ | 119°21′50″

(2) Sections of Area.

ALPHA section is the northerly section of the area, and is described as follows:

| Latitude | Longitude
Point H | 33°20′01″ | 119°32′02″
Point I | 33°20′10″ | 119°31′10″
Point K | 33°17′40″ | 119°24′50″
Point L | 33°13′50″ | 119°21′50″
Point O | 33°13′50″ | 119°26′02″
Thence northwesterly along shoreline to Point N
Point N | 33°17′04″ | 119°32′02″
Point H | 33°20′01″ | 119°32′02″

BRAVO section is the westerly section of the area, and is described as follows:

| Latitude | Longitude
Point N | 33°17′04″ | 119°32′02″
Thence westerly, southerly and easterly along the shoreline to Point M
Point M | 33°13′10″ | 119°29′40″
Point B | 33°10′10″ | 119°29′40″
Point C | 33°10′10″ | 119°31′10″
Point D | 33°12′00″ | 119°35′30″
Point E | 33°14′20″ | 119°37′40″
Point F | 33°16′40″ | 119°38′10″
Point G | 33°19′10″ | 119°37′10″
Point H | 33°20′01″ | 119°32′02″
Point N | 33°17′04″ | 119°32′02″

CHARLIE section is the southerly section of the area, and is described as follows:

| Latitude | Longitude
Point L | 33°13′50″ | 119°21′50″
Point O | 33°13′50″ | 119°26′02″
Thence southerly and westerly along the shoreline to Point M
Point M | 33°13′10″ | 119°29′40″
Point B | 33°10′10″ | 119°29′40″
Point A | 33°10′10″ | 119°24′20″
Point L | 33°13′50″ | 119°21′50″

(b) The regulations. (1) Except during closure periods or as otherwise provided in this section, the restricted area will be open to all vessels.

(2) Boats must remain at least 300 yards from the shoreline of San Nicolas Island at all times. Nothing in this provision shall be construed as authorization to anchor within 300 yards or to land on San Nicolas Island, except in an emergency.

(3) No person, vessel or other craft shall enter the restricted area or designated section(s) during closure periods unless authorized to do so by the Commanding Officer, Naval Base Ventura County or the Officer in Charge, San Nicolas Island.

(4) Submarine cables within the restricted area pose a risk to the equipment of vessels engaged in dredging, dragging, seining, anchoring and other bottom contact operations. Appropriate care must be taken to avoid damage.

(5) Closure Periods. Notice that the restricted area or section(s) ALPHA, BRAVO, or CHARLIE are closed to entry shall be given by radio broadcast Monday through Friday at 0900 and 1200 on 2638 kHz and 2738 kHz or by contacting “PLEAD CONTROL” on VHF-FM radio channel 11 or 16. Closure information may also be requested by telephone between 0600 and 1800 Monday through Friday at (805) 989-8841 or via recorded message at (805) 989-1470.

(6) The regulations in this section shall be enforced by personnel attached to Naval Base Ventura County, Point Mugu, Calif., and by such agencies as may be designated by the Commandant, 11th Naval District, San Diego, Calif.

Dated: November 19, 2013.
James R. Hannon,
Chief, Operations and Regulatory, Directorate of Civil Works.

[FR Doc. 2013-28126 Filed 11-21-13; 8:45 am]

BILLING CODE 3720-58-P